DEPARTMENT OF ENERGY

Federal Energy Regulatory Commission

Combined Notice of Filings #1

Take notice that the Commission received the following electric rate filings:

Docket Numbers: ER17-883-000.

Applicants: Duke Energy Florida, LLC.

Description: Report Filing: Refund Report Mulberry Energy and Orange Cogen to be effective N/A.

Filed Date: 4/17/17.

Accession Number: 20170417-5129.

Comments Due: 5 p.m. ET 5/8/17.

Docket Numbers: ER17-1424-000.

Applicants: Southwest Power Pool, Inc., Central Power Electric Cooperative, Inc.

Description: Southwest Power Pool, Inc. on behalf of Central Power Electric Cooperative, Inc. submits Depreciation Study and Change in Depreciation Rates.

Filed Date: 4/14/17.

Accession Number: 20170414-5218.

Comments Due: 5 p.m. ET 5/5/17.

Docket Numbers: ER17-1426-000.

Applicants: PJM Interconnection, L.L.C.

Description: § 205(d) Rate Filing: Queue Position AA2-059, Original Service Agreement No. 4670 to be effective 3/16/2017.

Filed Date: 4/17/17.

Accession Number: 20170417-5195.

Comments Due: 5 p.m. ET 5/8/17.

Docket Numbers: ER17-1427-000.

Applicants: PJM Interconnection, L.L.C.

Description: § 205(d) Rate Filing: Original ISA, Service Agreement No. 4668, Queue No. AA1-038 to be effective 3/16/2017.

Filed Date: 4/17/17.

Accession Number: 20170417-5196.

Comments Due: 5 p.m. ET 5/8/17.

Docket Numbers: ER17-1428-000.

Applicants: Tilton Energy LLC.

Description: Compliance filing: Informational Report Pursuant to MISO Tariff and E-Tariff Submission to be effective 6/17/2017.

Filed Date: 4/17/17.

Accession Number: 20170417-5201.

Comments Due: 5 p.m. ET 5/8/17.

Take notice that the Commission received the following open access transmission tariff filings:

Docket Numbers: OA07-19-013; OA07-43-014; ER07-1171-014.

Applicants: Arizona Public Service Company.

Description: Arizona Public Service Company submits its annual compliance report on penalty assessments and distributions.

Filed Date: 4/14/17.

Accession Number: 20170414-5160.

Comments Due: 5 p.m. ET 5/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2017.
Kimberly D. Bose,
Secretary.

[FR Doc. 2017-08087 Filed 4-20-17; 8:45 am]

BILLING CODE 6717-01-P